DEPARTMENT OF TRANSPORTATION

Federal Aviation Administration

14 CFR Parts 21, 61, 63, 65, 91, 107, 125, and 141

[Docket No.: FAA-2020-0446; Amdt. No(s). Amendment Numbers 1-103, 61-146, 63-44, 65-61, 91-358, 107-4, 125-70, and 141-22]

RIN 2120-AL64

Limited Extension of Relief for Certain Persons and Operations During the Coronavirus Disease 2019 (COVID-19) Public Health Emergency

AGENCY: Federal Aviation Administration (FAA), Department of Transportation (DOT).

ACTION: Final rule; correction.

SUMMARY: The FAA is correcting a final rule published on June 29, 2020 in which the FAA amended regulatory relief originally provided in the Relief for Certain Persons and Operations during the Coronavirus Disease 2019 (COVID-19) final rule. The FAA inadvertently listed incorrect amendment numbers for the final rule. This document corrects that error.

DATES: Effective August 5, 2020 through March 31, 2021.

FOR FURTHER INFORMATION CONTACT: For technical questions concerning this action for pilots, contact Craig Holmes, General Aviation and Commercial Division; Federal Aviation Administration, 800 Independence Avenue SW, Washington, DC 20591; telephone (202) 267-1100; email 9-AVS-AFS800-COVID19-Correspondence@faa.gov. For technical questions concerning this action for mechanics and special flight permits, contact Kevin Morgan, Aircraft Maintenance Division; Federal Aviation Administration, 800 Independence Avenue SW, Washington, DC 20591; telephone (202) 267-1675; email Kevin.Morgan@faa.gov. For technical questions concerning this action for aircraft dispatchers and flight engineers, contact Theodora Kessaris and Sheri Pippin, Air Transportation Division, Federal Aviation Administration, 800 Independence Avenue SW, Washington, DC 20591; telephone (202) 267-8166; email 9-AVS-AFS200-COVID-Exemptions@faa.gov.

SUPPLEMENTARY INFORMATION:

Good Cause for Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” In addition, section 553(d) of the APA requires that agencies publish a rule not less than 30 days before its effective date, except a substantive rule that relieves a restriction or “as otherwise provided by the agency for good cause found and published with the rule.” 5 U.S.C. 553(d)(1) and (3).

Because this action merely makes a correction to the amendment number of a published final rule, the FAA finds that notice and public comment under 5 U.S.C. 553(b) is unnecessary. For the same reason, the FAA finds that good cause exists under 5 U.S.C. 553(d) for making this rule effective in less than 30 days.

Background

On June 29, 2020, the FAA published the Limited Extension of Relief for Certain Persons and Operations during the Coronavirus Disease 2019 (COVID-19) Public Health Emergency final rule (85 FR 38763). After that rule was published, the FAA discovered a minor error with the amendment numbers listed in heading of the final rule that required correction. The final rule listed the amendment numbers as Amdt. No(s). 21-102, 61-145, 63-43, 65-60, 91-357, 107-3, 125-69, and 141-21.

Correction

In the final rule, FR Doc. 2020-13960, published on June 29, 2020, at 85 FR 38763 make the following correction:

1. On page 38763 in the heading of the final rule, revise “Amdt. No(s). 21-102, 61-145, 63-43, 65-60, 91-357, 107-3, 125-69, and 141-21” to read “1-103, 61-146, 63-44, 65-61, 91-358, 107-4, 125-70, and 141-22”.

Issued under authority provided by 49 U.S.C. 106(f), 106(g), 44701(a), and Sec. 206 of Public Law 111-216, 124 Stat. 2348 (49 U.S.C. 44701 note) in Washington, DC, on July 17, 2020.

Brandon Roberts,
Executive Director, Office of Rulemaking.

[FR Doc. 2020-16060 Filed 8-4-20; 8:45 am]

BILLING CODE 4910-13-P